DEPARTMENT OF HEALTH AND HUMAN SERVICES

National Institutes of Health

Center for Scientific Review; Amended Notice of Meeting

Notice is hereby given of a change in the meeting of the Adult Psychopathology and Disorders of Aging Study Section, October 20, 2003, 9 a.m. to October 21, 2003, 6 p.m. Radisson Barcello, 2121 P Street, NW., Washington, DC 20037 which was published in the Federal Register on September 16, 2003, 68 FR 54235-54237.

The meeting times have been changed to 8:30 a.m. on October 20, 2003, to 1 p.m. on October 21, 2003. The meeting dates and location remain the same. The meeting is closed to the public.

Dated: October 8, 2003.
LaVerne Y. Stringfield,
Director, Office of Federal Advisory Committee Policy.

[FR Doc. 03-26161 Filed 10-16-03; 8:45 am]

BILLING CODE 4140-01-M